INTERNATIONAL TRADE COMMISSION

[Investigation No. 337-TA-1192]

Certain Nicotine Pouches and Components Thereof and Methods of Making the Same; Commission Determination Not To Review an Initial Determination Terminating the Investigation in Its Entirety; Termination of the Investigation

AGENCY: U.S. International Trade Commission.

ACTION: Notice.

SUMMARY: Notice is hereby given that the U.S. International Trade Commission (“Commission”) has determined not to review an initial determination (“ID”) (Order No. 9) of the presiding administrative law judge (“ALJ”) granting complainants' unopposed motion to terminate the investigation in its entirety based on withdrawal of the complaint. The investigation is terminated.

FOR FURTHER INFORMATION CONTACT: Michael Liberman, Esq., Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On March 12, 2020, the Commission instituted Inv. No. 337-TA-1192, Certain Nicotine Pouches and Components Thereof and Methods of Making the Same, under section 337 of the Tariff Act of 1930, as amended, 19 U.S.C. 1337 (“section 337”), based on a complaint filed by NYZ AB of Stockholm, Sweden; Swedish Match North America, LLC of Richmond, Virginia; Pinkerton Tobacco Co., LP of Owensboro, Kentucky; and wm17 holding GmbH of Switzerland (collectively, “Complainants”). 85 FR 14505-06 (Mar. 12, 2020). A supplement to the complaint was filed on February 21, 2020. The complaint alleges a violation of section 337 based upon the importation into the United States, the sale for importation, and the sale within the United States after importation of certain nicotine pouches and components thereof and methods of making the same by reason of infringement of certain claims of U.S. Patent No. 9,161,908 (“the '908 patent”). Id. at 14505. The Commission's notice of investigation names as respondents The Art Factory AB of Helsingborg, Sweden; Kretek International, Inc. of Moorpark, California; and DRYFT Sciences, LLC of Moorpark, California (collectively, “Respondents”). Id. at 14506. The Commission's Office of Unfair Import Investigations also was named as a party. Id. Subsequently, the investigation was terminated as to claims 18 and 20 of the '908 patent. Order No. 7 (May 15, 2020), non-reviewed in relevant part by Commission Notice (June 15, 2020).

On May 29, 2020, Complainants filed an unopposed motion seeking to terminate this investigation in its entirety based on withdrawal of the complaint.

On June 11, 2020, the presiding ALJ issued the subject ID granting Complainants' motion. The ALJ found that the motion complies with the Commission Rules, and that there are no extraordinary circumstances that warrant denying the motion. No party petitioned for review of the ID.

The Commission has determined not to review the subject ID. The investigation is terminated.

The Commission vote for this determination took place on June 30, 2020.

The authority for the Commission's determination is contained in section 337 of the Tariff Act of 1930, as amended (19 U.S.C. 1337), and in Part 210 of the Commission's Rules of Practice and Procedure (19 CFR part 210).

By order of the Commission.
Issued: June 30, 2020.
Lisa Barton,
Secretary to the Commission.

[FR Doc. 2020-14467 Filed 7-6-20; 8:45 am]

BILLING CODE 7020-02-P